DEPARTMENT OF HOUSING AND URBAN DEVELOPMENT

[Docket No. FR-7039-N-03; OMB Control No.: 2501-0019]

60-Day Notice of Proposed Information: Semi-Annual Labor Standards Enforcement Report Local Contracting Agencies (HUD Programs)

AGENCY: Field Policy and Management, Office of Davis Bacon and Labor Standards, HUD.

ACTION: Notice.

SUMMARY: HUD is seeking approval for the proposed information collection requirement described below and will be submitting to the Office of Management and Budget (OMB) for review, as required by the Paperwork Reduction Act. The Department is soliciting public comments on the subject proposal.

DATES: Comments Due Date: May 18, 2021.

ADDRESSES: Interested persons are invited to submit comments regarding this proposal. Comments should refer to the proposal by name and/or OMB Control Number and should be sent to: Saundra A. Green, Administrative Officer, Office of Field Policy and Management, Department of Housing and Urban Development, 451 7th Street SW, Washington, DC 20410, Room 7108 or the number (202-402-5537) this is not a toll free number or email at Saundra.A.Green@hud.gov or a copy of the proposed forms or other available information. Persons with hearing or speech impairments may access this number though TTY by calling the toll-free Federal Relay Service at (800) 877-8339.

FOR FURTHER INFORMATION CONTACT: Colette Pollard, Reports Management Officer, QDAM, Department of Housing and Urban Development, 451 7th Street SW, Washington, DC 20410, telephone (202) 402-3400 (this is not a toll free number) or email Colette Pollard at Colette.Pollard@hud.gov for copies of the proposed forms and other available information. Persons with hearing or speech impairments may access this number though TTY by calling the toll-free Federal Relay Service at (800) 877-8339.

SUPPLEMENTARY INFORMATION: The Department is submitting the proposed information collection to OMB for review, as required by the Paperwork Reduction Act of 1995 (44 U.S.C. chapter 35, as amended). This Notice is soliciting comments from members of the public and affected agencies concerning the proposed collection of information to: (1) Evaluate whether the proposed collection is necessary for the proper performance of the functions of the agency, including whether the information will have practical utility; (2) Evaluate the accuracy of the agency's estimate of the burden of the proposed collection of information; (3) Enhance the quality, utility, and clarity of the information to be collected; and (4) Minimize the burden of the collection of information on those who are to respond; including the use of appropriate automated collection techniques or other forms of information technology, e.g., permitting electronic submission of responses.

This Notice also lists the following information:

Title: Semi-Annual Labor Standards Enforcement Report Local Contracting agencies (HUD Programs).

OMB Control Number, if applicable: 2501-0019.

Description of the need for the information and proposed use: The Department of Labor (DOL) Regulations 29 CFR 5.7(b), requires Federal agencies administering programs subject to Davis-Bacon and Related Act (DBRA) and Contract Work Hours and Safety Standards Act (CWHSSA) labor standards to furnish a Semi-Annual Labor Standards Enforcement Report to the Administrator of the Wage and Hour Division. Some HUD programs are administered by state and local agencies for the labor standards compliance. HUD must collect information from such agencies in order to capture enforcement activities for all HUD programs in its reports to DOL.

Agency form numbers, if applicable: HUD FORM 4710, 4710i.

Estimation of the total numbers of hours needed to prepare the information collection including number of respondents, frequency of response, and hours of response:

Information collection | Number of respondents | Frequency of response | Responses per annum | Burden hour per response | Annual burden hours | Hourly cost per response | Annual cost
HUD 4710 Semi-annual Labor Standards Enforcement Report—Local Contracting Agencies | 4,870 | 2 | 9,740 | 2.5 | 24,350 | 37.34 | 909,229
HUD 4710i Instruction to fill out the above form | 0 | 0 | 0 | 0 | 0 | 0 | 9
Total | 4,870 | 2 | 9,740 | 2 | 24,350 | $37.34 | $909,220

Authority: The Paperwork Reduction Act of 1995, 44 U.S.C., Chapter 35, as amended.

Timothy M. Smyth,
Director, Office of Field Policy and Management.

[FR Doc. 2021-05701 Filed 3-18-21; 8:45 am]

BILLING CODE 4210-67-P